DEPARTMENT OF HOUSING AND URBAN DEVELOPMENT

[Docket No. FR-4768-C-02]

Notice of Funding Availability for Revitalization of Severely Distressed Public Housing; HOPE VI Revitalization Grants, Fiscal Year 2002; Notice of Extension of Application Deadline

AGENCY: Office of Public and Indian Housing, HUD.

ACTION: Notice of Funding Availability for Revitalization of Severely Distressed Public Housing, HOPE VI Revitalization Grants, Notice of Extension of Application Deadline.

SUMMARY: This notice extends, for one week, the application due date for HUD's Fiscal Year (FY) 2002 Notice of Funding Availability for Revitalization of Severely Distressed Public Housing, HOPE VI Revitalization Grants.

DATES: Application Due Date. Revitalization grant applications are due to HUD Headquarters on or before 5:15 p.m., Eastern Time, on December 6, 2002.

FOR FURTHER INFORMATION CONTACT: Milan Ozdinec, Deputy Assistant Secretary for Public Housing Investments, Department of Housing and Urban Development, 451 Seventh Street, SW., Room 4130, Washington, DC 20410; telephone (202) 401-8812; fax (202) 401-2370 (these are not toll free numbers). Persons with hearing- or speech-impairments may call via TTY by calling the Federal Information Relay Service at (800) 877-8339.

SUPPLEMENTARY INFORMATION: On July 31, 2002 (67 FR 49766), HUD published its Fiscal Year (FY) 2002 Notice of Funding Availability for Revitalization of Severely Distressed Public Housing, HOPE VI Revitalization Grants (HOPE VI NOFA), which announced the availability of approximately $492.5 million in FY 2002 funds for the HOPE VI Revitalization Program. The July 31, 2002 HOPE VI NOFA provided an application due date of November 29, 2002. Because November 29, 2002, falls on the Friday after the Thanksgiving holiday, HUD is extending the application due date under the July 31, 2002 HOPE VI NOFA for one week. Grant applications under the July 31, 2002 HOPE VI NOFA are now due to HUD Headquarters on or before 5:15 p.m., Eastern Time, on Friday, December 6, 2002. Except for this change in the application due date, all other requirements of the July 31, 2002 HOPE VI NOFA remain unchanged.

Dated: September 20, 2002.
Paula O. Blunt,
General Deputy Assistant Secretary for Public and Indian Housing.

[FR Doc. 02-24620 Filed 9-26-02; 8:45 am]

BILLING CODE 4210-33-P